DEPARTMENT OF HOMELAND SECURITY

[Docket No. DHS-2010-0006]

Agency Information Collection Activities: Cybersecurity and Communications Technical Assistance Request and Evaluation

AGENCY: National Protection and Programs Directorate, DHS.

ACTION: 30-day notice and request for comments; New Information Collection Request: 1670-NEW.

SUMMARY: The Department of Homeland Security (DHS), National Protection and Programs Directorate (NPPD), Office of Cybersecurity and Communications (CS&C), Office of Emergency Communications (OEC), will submit the following information collection request (ICR) to the Office of Management and Budget (OMB) for review and clearance in accordance with the Paperwork Reduction Act of 1995 (Pub. L. 104-13, 44 U.S.C. Chapter 35). NPPD is soliciting comments concerning New Information Collection Request, Technical Assistance Request and Evaluation. DHS previously published this ICR in the Federal Register on March 3, 2010, at 75 FR 9608-9609, for a 60-day public comment period. DHS received no comments. The purpose of this notice is to allow an additional 30 days for public comments.

DATES: Comments are encouraged and will be accepted until March 14, 2011. This process is conducted in accordance with 5 CFR 1320.10.

ADDRESSES: Interested persons are invited to submit written comments on the proposed ICR to the OMB Office of Information and Regulatory Affairs. Comments should be addressed to OMB Desk Officer, DHS Office of Civil Rights and Civil Liberties. Comments must be identified by DHS-2010-0006 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required, contact: DHS/NPPD/CS&C/OEC, Richard Reed, 202-343-1666, Richard.Reed@dhs.gov.

SUPPLEMENTARY INFORMATION: OEC was formed under Title XVIII of the Homeland Security Act of 2002, 6 U.S.C. 101 et seq., as amended, and is responsible for providing free technical assistance to States, territories, localities, and Tribal agencies. The Technical Assistance Request Form is used to identify the number and type of technical assistance requests from each State and territory. The Technical Assistance Evaluation Form is used by OEC to support quality improvement of its technical assistance services. Registration forms will be submitted electronically. Evaluation forms may be submitted electronically or in paper form.

Analysis

Agency: Department of Homeland Security, National Protection and Programs Directorate.

Title: Technical Assistance Request and Evaluation.

Form: DHS Form 9042, DHS Form 9043.

OMB Number: 1670-NEW.

Frequency: Annual.

Affected Public: State, local, or Tribal government.

Number of Respondents: 350.

Estimated Time per Respondent: 15 minutes.

Total Burden Hours: 175 annual burden hours.

Total Burden Cost (capital/startup): $0.

Total Burden Cost (operating/maintaining): $4,273.50.

Dated: January 20, 2011.
David Epperson,
Chief Information Officer, National Protection and Programs Directorate, Department of Homeland Security.

[FR Doc. 2011-3150 Filed 2-10-11; 8:45 am]

BILLING CODE 9110-9P-P